NATIONAL AERONAUTICS AND SPACE ADMINISTRATION

[Notice: (17-026)]

Applied Sciences Advisory Committee; Meeting

AGENCY: National Aeronautics and Space Administration.

ACTION: Notice of meeting.

SUMMARY: In accordance with the Federal Advisory Committee Act, as amended, the National Aeronautics and Space Administration (NASA) announces a meeting of the Applied Sciences Advisory Committee (ASAC). This Committee functions in an advisory capacity to the Director, Earth Science Division, in the NASA Science Mission Directorate. The meeting will be held for the purpose of soliciting, from the applied sciences community and other persons, scientific and technical information relevant to program planning.

DATES: Wednesday, June 7, 2017, 12:00 p.m.-3:00 p.m., Eastern Daylight Time (EDT).

FOR FURTHER INFORMATION CONTACT: Ms. KarShelia Henderson, Science Mission Directorate, NASA Headquarters, Washington, DC 20546, (202) 358-2355, or khenderson@nasa.gov.

SUPPLEMENTARY INFORMATION: The meeting will be open to the public telephonically and via WebEx. You must use a touch-tone phone to participate in this meeting. Any interested person may dial the USA toll free conference call number 1-888-677-3055 passcode 3321063 followed by the # sign, to participate in this meeting by telephone. The WebEx link is https://nasa.webex.com/; the meeting number is 993 697 679 and the password is SFAvDG?2.

The agenda for the meeting includes the following topics:

• Overview of 2017 Applied Sciences Program budget

• Continuity Study

• Applied Sciences Program Updates

• Update on Applied Sciences Program Communications

It is imperative that the meeting be held on this date to accommodate the scheduling priorities of the key participants.

Patricia D. Rausch,
Advisory Committee Management Officer, National Aeronautics and Space Administration.

[FR Doc. 2017-10451 Filed 5-22-17; 8:45 am]

BILLING CODE 7510-13-P